DEPARTMENT OF EDUCATION

Parental Information and Resource Centers

AGENCY: Office of Innovation and Improvement, Department of Education.

ACTION: Notice of proposed priorities and eligibility requirements.

SUMMARY: The Assistant Deputy Secretary for Innovation and Improvement proposes priorities and eligibility requirements under the Parental Information and Resource Centers (PIRC) program. The Assistant Deputy Secretary may use one or more of the priorities for and apply these eligibility requirements to competitions in fiscal year (FY) 2006 and in later years. We intend these priorities and requirements to help ensure that funded projects will effectively address the purposes of the PIRC program.

DATES: We must receive your comments on or before January 27, 2006.

ADDRESSES: Address all comments about these proposed priorities and requirements to Steven L. Brockhouse, U.S. Department of Education, 400 Maryland Avenue, SW., room 4W229, Washington, DC 20202-5970. If you prefer to send your comments through the Internet, use the following address: steve.brockhouse@ed.gov.

FOR FURTHER INFORMATION CONTACT: Steven L. Brockhouse. Telephone: (202) 260-2476 or via Internet: steve.brockhouse@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Invitation to Comment

We invite you to submit comments regarding these proposed priorities and requirements. To ensure that your comments have maximum effect in developing the notice of final priorities and eligibility requirements, we urge you to identify clearly the specific proposed priority or requirement that each comment addresses.

We invite you to assist us in complying with the specific requirements of Executive Order 12866 and its overall requirement of reducing regulatory burden that might result from these proposed priorities and requirements. Please let us know of any further opportunities we should take to reduce potential costs or increase potential benefits while preserving the effective and efficient administration of the program.

During and after the comment period, you may inspect all public comments about these proposed priorities and requirements in room 4W229, 400 Maryland Avenue, SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for these proposed priorities and requirements. If you want to schedule an appointment for this type of aid, please contact the person listed under FOR FURTHER INFORMATION CONTACT.

General Information

PIRC projects help implement successful and effective parental involvement policies, programs, and activities that lead to improvements in student academic achievement and strengthen partnerships among parents, teachers, principals, administrators, and other school personnel in meeting the education needs of children. Section 5563(b) of the Elementary and Secondary Education Act of 1965, as amended (ESEA), describes project requirements for the recipients of PIRC grants, including requirements to serve both rural and urban areas; to use at least one-half of the funds awarded to a project to serve areas with high concentrations of low-income children; and to use at least 30 percent of the funds awarded to a project to establish, expand, or operate early childhood parent education programs.

In this notice, we are proposing four separate priorities. We are also proposing eligibility requirements that define the nonprofit organizations that may apply and clarify the types of entities that may serve as the applicant and fiscal agent if the application is submitted by a consortium that includes a nonprofit organization and one or more local educational agencies (LEAs).

Background on Proposed Priorities

The first and second proposed priorities, addressing the geographic distribution of awards and statewide impact, respectively, would help ensure that, to the extent possible, PIRC project services would be widely available.

Proposed Priority 1, Geographic Distribution of Awards, is designed to help ensure that there will be a high-quality PIRC in most or all States. The highest-ranking application from a State would receive priority for an award, provided that the application is of sufficient quality that the proposed project will likely succeed in meeting the purposes of the PIRC program, in implementing effective activities, and in achieving intended results. Additionally, we are proposing that to meet this proposed priority an applicant must provide services in a single State only.

Under the ESEA, each State establishes its own policies, standards, and requirements in a number of areas, including standards for adequate yearly progress under section 1111 of Title I of the ESEA, procedures for parental involvement and communication under section 1118 of Title I of the ESEA, and requirements related to supplemental educational services and other educational options available to parents under section 1116 of that title. It is important that there is a high-quality federally funded PIRC in most or all States to help ensure that PIRC services addressing these subject areas are tailored to the particular standards, policies, and requirements of the State in which the PIRC project operates.

Furthermore, the proposed priority would help ensure that PIRC grants would be distributed in all geographic regions of the United States, consistent with section 5562(b) of the ESEA.

Use of this priority would permit the Department to fund additional applications of exceptional quality from any State, even though only the highest-ranking application from a State could qualify for this priority.

Proposed Priority 2, Statewide Impact of PIRC Services, encourages projects that propose broad statewide services. Currently, some PIRCs operate on a statewide basis while others focus activities and services only on specific local communities. The Department believes that it is important that each PIRC provide statewide services.

This priority would help to ensure that parents from across a State, whether in urban or rural areas, would have access to information and essential services. A grantee could provide statewide services through a variety of approaches, including the Internet.

We believe that having PIRC projects with identifiable statewide responsibilities would help to facilitate the development of more effective relationships between PIRC projects and State educational agency officials, especially those responsible for the implementation of Title I of the ESEA.

Proposed Priority 2 would not restrict a project to providing services exclusively on a statewide basis. PIRC projects would continue to have the flexibility to include other activities that are tailored to meet the needs of particular communities, geographic regions, or LEAs in their State. Finally, the priority would not require that a project provide all services to all communities in the State, because such an approach would be impractical based on the resources that are likely to be available for PIRC grants.

Proposed Priority 3, Understanding State and Local Report Cards and Opportunities for Public School Choice and Supplemental Educational Services, builds on our experience in using a similar priority for the most recent PIRC program competition held in FY 2003. Through this priority, we would focus specifically on helping parents (particularly parents of children attending schools identified for school improvement, corrective action, or restructuring under Title I of the ESEA) to understand the information contained in State and local report cards so that they can make informed decisions about the public school choice and supplemental educational services options that may be available to them to help their children achieve academically.

State and local school report cards are critical tools for promoting accountability for LEAs and schools and for helping parents see where schools and districts are succeeding and where there is still work to do. The more parents know about the academic achievement of their children and their schools, the more likely they are to be involved in their local schools and the public school system. Further, when parents are equipped with information on academic results, they can also make better decisions regarding the options for public school choice and supplemental educational services that are available to them.

(Guidance on report cards under Title I of the ESEA is available at: http://www.ed.gov/programs/titleiparta/reportcardsguidance.doc; guidance on supplemental educational services is available at: http://www.ed.gov/policy/elsec/guid/suppsvcsguid.doc; and guidance on public school choice is available at: http://www.ed.gov/policy/elsec/guid/schoolchoiceguid.doc.)

Proposed Priority 4, Technical Assistance in the Implementation of LEA and School Parental Involvement Policy under section 1118 of the ESEA helps to focus attention on the needs of school districts and schools that continue to face challenges in implementing effective policies and activities for parental involvement-especially for those activities that afford parents substantial and meaningful opportunities to participate in the education of their children and to contribute to their children's academic growth and improvement.

Research on effective parental involvement provides substantial evidence that families have a major influence on their children's achievement in school and through life. When schools, families, and community groups work together to support learning, children tend to do better in school, stay in school longer, and like school more.

Title I of the ESEA requires that parents be afforded substantial and meaningful opportunities to participate in the education of their children. Specifically, section 1118 of the ESEA provides the framework for parental involvement policies, plans, and activities at the local level. For example, section 1118 requires that every school district and every school receiving Title I funds have a written parental involvement policy; that LEAs and schools develop the written parental involvement policy jointly with parents of children participating in Title I programs; and that LEAs work in cooperation with their Title I schools to build the capacity of parents and school staff for strong parental involvement, which in turn should improve academic achievement.

Background on Proposed Eligibility Requirements

We are also proposing to clarify the PIRC eligibility requirements. The history of the PIRC program has focused on the involvement of nonprofit organizations as applicants for awards under the PIRC program. Section 5563(b)(1) of the ESEA generally provides that any nonprofit organization that submits an application for a PIRC project must focus on parents in its governance or organizational interest. The references to the inclusion of parents and representation of the interests of parents in section 5563(b)(1) of the ESEA do not further define the types of parents to be included or represented. Other provisions in section 5563, as well as sections 5561, 5562 and 5564 of the ESEA, clarify that the parents whose interests are of concern to the PIRC program are parents of pre-school and school-aged children, including those parents who are educationally or economically disadvantaged.

The proposed eligibility requirements would define the term “nonprofit organization” for purposes of the PIRC program to clarify that in order to be an eligible applicant for a PIRC project, a nonprofit organization must, at a minimum, be one that either represents the interests of parents of pre-school and school-aged children, including parents who are educationally or economically disadvantaged or includes parents of pre-school and school-aged children, including parents who are educationally or economically disadvantaged, on the organization's board of directors.

Faith-based and community organizations that meet the standards in the proposed definition would continue to be eligible applicants for the PIRC program.

Additionally, section 5563(a) of the ESEA permits the submission of an application from a consortium that includes a nonprofit organization and one or more LEAs. In the case of an application from a consortium, we propose to require that a nonprofit organization serve as the applicant and fiscal agent. Under the proposed clarification, State and local governments, including LEAs, intermediate school districts, and schools, therefore, would not be eligible to submit an application on behalf of a consortium or serve as the fiscal agent of a PIRC grant.

We will announce the final priorities and eligibility requirements in a notice in the Federal Register. We will determine the final priorities and eligibility requirements after considering responses to this notice and other information available to the Department. This notice does not preclude us from proposing or funding additional priorities or establishing additional requirements, subject to meeting applicable rulemaking requirements.

Note: This notice does not solicit applications. In any year in which we choose to use one or more of these priorities, we invite applications through a notice in the Federal Register. When inviting applications we designate each priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priorities

Proposed Priority 1—Geographic Distribution of Awards

This proposed priority supports an application that meets the following three conditions:

(1) The application is the highest-ranking application proposing to implement a PIRC project in a State, based on the selection criteria and competitive preference priorities used for this competition.

(2) The application's PIRC project proposes to provide services only in that State.

(3) The application is of sufficient quality to show that the proposed project is likely to succeed in meeting the purposes of the PIRC program, in implementing effective activities, and in achieving intended results.

For the purpose of selecting applications under this priority, we use the definition of the term “State” in 34 CFR 77.1(c).

Proposed Priority 2—Statewide Impact of PIRC Services

This proposed priority supports applications that would implement broad statewide strategies to provide parents from across the State, particularly parents who are educationally or economically disadvantaged, with services that enhance their ability to participate effectively in their child's education, including their ability to communicate effectively with public school personnel in the school that their child attends.

Proposed Priority 3—Understanding State and Local Report Cards and Opportunities for Public School Choice and Supplemental Educational Services

This priority supports applications that would implement activities that effectively assist parents in understanding State and local report cards under Title I of the ESEA and, in cases where their child attends a school identified as in need of improvement, corrective action, or restructuring under Title I, in understanding their options for public school choice or supplemental educational services.

Proposed Priority 4—Technical Assistance in the Implementation of Local Educational Agency and School Parental Involvement Policy Under Section 1118 of the ESEA

This priority supports applications that would provide technical assistance in the implementation of LEA and school parental involvement policies under Title I of the ESEA in order to improve student academic achievement and school performance.

Requirements

Proposed Eligibility Requirements

We propose to define the term “nonprofit organization” for purposes of the PIRC program as an organization that:

(1) Is owned and operated by one or more corporations or associations whose net earnings do not benefit, and cannot lawfully benefit, any private shareholder or entity, as set forth in 34 CFR part 77; and

(2) Is an organization that:

(a) Represents the interests of parents of pre-school and school-age children (including parents who are educationally or economically disadvantaged); or

(b) Is governed by a board of directors whose membership includes such parents.

We also propose that for an application submitted by a consortium that includes a nonprofit organization and one or more LEAs, that the nonprofit organization must serve as the applicant and fiscal agent for the consortium. State and local governments, including LEAs, intermediate school districts, and schools, would not be eligible to submit an application on behalf of a consortium or serve as the fiscal agent of a PIRC grant.

Executive Order 12866

This notice of proposed priorities and eligibility requirements has been reviewed in accordance with Executive Order 12866. Under the terms of the order, we have assessed the potential costs and benefits of this regulatory action.

The potential costs associated with the notice of proposed priorities and eligibility requirements are those resulting from statutory requirements and those we have determined as necessary for administering this program effectively and efficiently.

In assessing the potential costs and benefits—both quantitative and qualitative—of this notice of proposed priorities and eligibility requirements, we have determined that the benefits of the proposed priorities and requirements justify the costs.

We have also determined that this regulatory action does not unduly interfere with State, local, and tribal governments in the exercise of their governmental functions.

Summary of potential costs and benefits: The potential cost associated with these proposed priorities and eligibility requirements is minimal while the benefits are significant. Applicants may anticipate costs with completing the application process in terms of staff and partner time, copying, and mailing or delivery. The use of E-Application technology would reduce mailing and copying costs significantly.

The benefit of the proposed priorities and requirements is that they will help applicants prepare higher-quality proposals that are better focused on critical information needs for parents.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

You may also view this document in text at the following site: http://www.ed.gov/programs/pirc/applicant.html.

Note: The official version of this document is the document published in the Federal Register. Free Internet access to the official edition of the Federal Register and the Code of Federal Regulations is available on GPO Access at: http://www.gpoaccess.gov/nara/index.html.

(Catalog of Federal Domestic Assistance Number 84.310A)

Program Authority: 20 U.S.C. 7273 et seq.

Dated: December 22, 2005.
Nina Shokraii Rees,
Assistant Deputy Secretary for Innovation and Improvement.

[FR Doc. E5-7986 Filed 12-27-05; 8:45 am]

BILLING CODE 4000-01-P